DEPARTMENT OF STATE

[Public Notice: 12778]

Specially Designated Global Terrorist Designations of Kata'ib al-Imam Ali and Nasr Mohsen Ali Huthele

Acting under the authority of and in accordance with section 1(a)(ii)(A) of Executive Order 13224, as amended (“E.O. 13224” or “Order”), I hereby determine that the person known as Kata'ib al-Imam Ali (also known as KIA, al-Imam Ali Battalions, Imam Ali Brigades, Kataib Rouh Allah Issa Ibn Miriam) is a foreign person who has committed or has attempted to commit, poses a significant risk of committing, or has participated in training to commit acts of terrorism that threaten the security of U.S. nationals or the national security, foreign policy, or economy of the United States.

Additionally, acting under the authority of and in accordance with section 1(a)(ii)(B)(2) of E.O. 13224, I hereby determine that the person known as Nasr Mohsen Ali Huthele (also known as Nasr al-Shammari) is a foreign person who is a leader of Harakat al-Nujaba, an entity whose property and interests in property are blocked pursuant to a determination by the Secretary of State pursuant to E.O. 13224.

Consistent with the determination in section 10 of E.O. 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This determination shall be published in the Federal Register.

Dated: July 21, 2025.
Marco Rubio,
Secretary of State.

[FR Doc. 2025-14533 Filed 7-31-25; 8:45 am]

BILLING CODE 4710-AD-P